ENVIRONMENTAL PROTECTION AGENCY

[FRL-7412-8]

Gulf of Mexico Program Policy Review Board Meeting

AGENCY: Environmental Protection Agency (EPA).

ACTION: Notice of meeting.

SUMMARY: Under the Federal Advisory Committee Act (Pub. L. 92-463), EPA gives notice of a meeting of the Gulf of Mexico Program (GMP) Policy Review Board (PRB).

DATES: The meeting will be held on Thursday, December 12, 2002, from 8 a.m. to 2:30 p.m.

ADDRESSES: The meeting will be held at the Embassy Suites Hotel, 315 Julia Street, New Orleans, LA 70130 (504-525-1993).

FOR FURTHER INFORMATION CONTACT: Gloria D. Car, Designated Federal Officer, Gulf of Mexico Program Office, Mail Code EPA/GMPO, Stennis Space Center, MS 39529-6000 at (228) 688-2421.

SUPPLEMENTARY INFORMATION: Proposed agenda is attached.

The meeting is open to the public.

Dated: November 18, 2002.
Gloria D. Car,
Designated Federal Officer.

Gulf of Mexico Program

Policy Review Board Meeting

Embassy Suites Hotel, Bayou Jean Lafitte Rooms, 6th Floor, New Orleans, Louisiana, Thursday, December 12, 2002.

Agenda

7:30—Continental Breakfast (in meeting room).

8:30—Welcome and Introductions, Jimmy Palmer, EPA Regional Administrator, Region 4, Atlanta Hall Bohlinger, Acting Secretary, LA Department of Env. Quality.

8:40—Overview of Meeting Agenda & Objectives, Status Review of Follow-up Action Items, Bryon Griffith, Gulf of Mexico Program Office.

9:00—Harmful Algal Blooms Observing System Pilot Project Status, Dr. Bill Benson, Director, EPA ORD's Gulf Ecology Division Laboratory.

Purpose: To receive an update on the progress of the Hazardous Algal Blooms Observing System (HABSOS) pilot.

9:45—Bacterial Source Tracking Research, Dr. R.D. Ellender, Assistant Dean for Research & Development, College of Science & Technology, University of Southern Mississippi.

Purpose: To receive an overview of the current state of the research in this topic area and to solicit broad Gulf State involvement in a collaborative EPA Region 4 and University of Southern Mississippi initiative to provide Gulf State coordination and support for applied Bacterial Source Tracking research.

10:30—Break.

10:45—GMP Mercury Project Update—re: Gulf State Marine Fish Advisory Consistency Dr. Fred Kopfler, Gulf of Mexico Program Office.

Purpose: To receive an update on the status of the GMP initiative to achieve consistent marine fish advisories re: Mercury in Gulf Seafood.

11:15—President's Interagency Work Group on Mercury Presentation, Gene Whitney, Policy Analyst, Office of Science & Technology Policy, Executive Office of the President.

Purpose: To receive an Executive Briefing on the development and status of President's Interagency Workgroup on Mercury and their future plans relative to the Gulf of Mexico region.

12:00—Catered Lunch—2002 Gulf Guardian Awards Video Presentation.

12:45—Presidential Executive Order Recommendations—Final Review, Bryon Griffith, Gulf of Mexico Program Office.

Purpose: (1) To conduct the final review of the Management Committee's recommendations regarding the proposed Presidential Executive Order establishing the Gulf of Mexico Program; (2) To discuss and finalize a supporting implementation strategy and schedule for submitting the Executive proposal to the EPA Administrator.

1:30—GMP's Assistance Role in the Advancing Development and Deployment of NASA's Space-based Earth Sciences Support, Dr. David Powe, Director, Earth Science Applications Directorate, NASA, Stennis Space Center, Mississippi.

Purpose: To explore stronger partnership opportunities through NASA's Space-based Earth Science Applications Development Program.

2:00—Hypoxia Action Plan Status: Lower Mississippi River Sub-basin Team Development Report (Agricultural Sector)—Lower Mississippi Valley Initiative's (LMVI) Watershed Approach, Invited speaker.

Purpose: To receive an update on the status of the Lower Mississippi River Sub-basin Team's development re: Agriculture's organization (e.g., LMVI) and process (i.e., Watershed Approach) approach to addressing many of the sub-basin's industry led solutions.

2:30—Wrap-up and next steps, Jimmy Palmer and Hall Bohlinger.

2:35—Adjourn .

[FR Doc. 02-29885 Filed 11-22-02; 8:45 am]

BILLING CODE 6560-50-P